ENVIRONMENTAL PROTECTION AGENCY

40 CFR Part 52

[EPA-R09-OAR-2024-0199; FRL-12188-02-R9]

Air Quality Plans; Arizona; Maricopa County Air Quality Department; Source-Specific SIP Revision

AGENCY: Environmental Protection Agency (EPA).

ACTION: Final rule.

SUMMARY: The Environmental Protection Agency (EPA) is taking final action on a source-specific revision to the Maricopa County Air Quality Department's (MCAQD or “Department”) portion of the Arizona State Implementation Plan (SIP). This revision consists of certain permit conditions related to emissions offsets generated from the replacement of existing diesel-fueled solid waste collection trucks promulgated by the MCAQD and submitted by the State of Arizona for inclusion in the Maricopa County portion of the Arizona SIP under the Clean Air Act (CAA or “Act”). The permit conditions were submitted for SIP approval to ensure that they are federally enforceable, which is the basis for qualifying certain emissions reductions as creditable offsets under the CAA.

DATES: This rule is effective on January 15, 2025.

ADDRESSES: The EPA has established a docket for this action under Docket No. EPA-R09-OAR-2024-0199. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section. If you need assistance in a language other than English or if you are a person with disabilities who needs a reasonable accommodation at no cost to you, please contact the person identified in the FOR FURTHER INFORMATION CONTACT section.

FOR FURTHER INFORMATION CONTACT: Christa Leska, EPA Region IX, 75 Hawthorne St., San Francisco, CA 94105; by phone: (415) 972-3930; or by email to leska.christa@epa.gov.

SUPPLEMENTARY INFORMATION: Throughout this document, “we,” “us,” and “our” refer to the EPA.

Table of Contents

I. Proposed Action

II. Public Comments

III. EPA Action

IV. Incorporation by Reference

V. Statutory and Executive Order Reviews

I. Proposed Action

On August 19, 2024, the EPA proposed approval of the source-specific SIP revision to the Arizona SIP.¹ The SIP revision consists of adding portions of the following three operating permits: P0011602, P0011603, P0011601. The submitted permit conditions ensure that emission reduction credits granted to Waste Management for replacing existing diesel-fired solid waste collection trucks with compressed natural gas (CNG)-fired solid waste collection trucks meet the offset integrity criteria contained in 40 CFR part 51.165(a)(3)(ii)(C)(1)(i), which requires such emission reductions to be surplus, permanent, quantifiable, and federally enforceable. Although the permit conditions are federally enforceable pursuant to 40 CFR 52.23, approving these permit conditions into the SIP ensures their permanence and preserves their federal enforceability.

¹ 89 FR 67012.

II. Public Comments

The EPA's proposed action provided a 30-day public comment period. During this period, no comments were submitted on our proposal.

III. EPA Action

No comments were submitted on our proposal. Therefore, as authorized in sections 110(k)(3) and 301(a) of the Act, the EPA is finalizing approval of this revision to the Arizona SIP. This action incorporates the submitted permit conditions into the Maricopa County portion of the Arizona SIP, which provides the necessary federal enforceability for these permit conditions.

IV. Incorporation by Reference

In this rule, the EPA is finalizing regulatory text that includes incorporation by reference. In accordance with requirements of 1 CFR 51.5, the EPA is finalizing the incorporation by reference of the three source-specific SIP revisions identified by permit numbers P0011601, P0011602 and P0011603 issued to Waste Management, submitted on April 3, 2024. These source-specific SIP revisions incorporate specific provisions from permits issued by the MCAQD to ensure certain emission reductions are surplus, permanent, quantifiable, and federally enforceable. The EPA has made, and will continue to make, these materials available through https://www.regulations.gov and in hard copy at the EPA Region IX Office (please contact the person identified in the FOR FURTHER INFORMATION CONTACT section of this preamble for more information).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements E.O. 12898 and defines EJ as, among other things, “the just treatment and meaningful involvement of all people, regardless of income, race, color, national origin, Tribal affiliation, or disability, in agency decision-making and other Federal activities that affect human health and the environment.”

The State did not evaluate EJ considerations as part of its SIP submittal; the CAA and applicable implementing regulations neither prohibit nor require such an evaluation. The EPA did not perform an EJ analysis and did not consider EJ in this action. Consideration of EJ is not required as part of this action, and there is no information in the record inconsistent with the stated goal of Executive Orders 12898 and 14096 of achieving EJ for communities with EJ concerns.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non-agency parties. 5 U.S.C. 804(3). Because this is a rule of particular applicability, the EPA is not required to submit a rule report regarding this action under section 801.

Under section 307(b)(1) of the Clean Air Act, petitions for judicial review of this action must be filed in the United States Court of Appeals for the appropriate circuit by February 14, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen oxides, Ozone, Particulate matter, Reporting and recordkeeping requirements, Volatile organic compounds.

Dated: December 4, 2024.
Martha Guzman Aceves,
Regional Administrator, Region IX.

For the reasons stated in the preamble, the Environmental Protection Agency amends part 52, chapter I, title 40 of the Code of Federal Regulations as follows:

PART 52—APPROVAL AND PROMULGATION OF IMPLEMENTATION PLANS

1. The authority citation for Part 52 continues to read as follows:

Authority: 42 U.S.C. 7401 et seq.

Subpart D—Arizona

2. Amend § 52.120, paragraph (d), in the table titled, “EPA-Approved Source-Specific Requirements,” under the heading “Maricopa County Air Quality Department,” after the entry for “W.R. Meadows of Arizona, Inc., Goodyear, Arizona,” by adding three entries to read as follows:

§ 52.120 Identification of plan.

* * * * *

EPA-Approved Source-Specific Requirements
Name of source | Order/permit No. | Effective date | EPA approval date | Explanation
* * * * * * *
Maricopa County Air Quality Department
* * * * * * *
Deer Valley Transfer Station, Facility ID F000443 | P0011601, conditions 37-46 | 3/06/2024 | 12/16/2024, [INSERT FIRST PAGE OF FEDERAL REGISTER CITATION] | Permit issued by the Maricopa County Air Quality Department. Submitted on August 3, 2022. Revised copy submitted on April 3, 2024, as an attachment to a letter dated March 29, 2024.
San Tan Transfer Station, Facility ID F001645 | P0011602, conditions 37-46 | 3/06/2024 | 12/16/2024, [INSERT FIRST PAGE OF FEDERAL REGISTER CITATION] | Permit issued by the Maricopa County Air Quality Department. Submitted on August 3, 2022. Revised copy submitted on April 3, 2024, as an attachment to a letter dated March 29, 2024.
White Tanks Transfer Station, Facility ID F001646 | P0011603, conditions 33-42 | 3/06/2024 | 12/16/2024, [INSERT FIRST PAGE OF FEDERAL REGISTER CITATION] | Permit issued by the Maricopa County Air Quality Department. Submitted on August 3, 2022. Revised copy submitted on April 3, 2024, as an attachment to a letter dated March 29, 2024.

* * * * *

[FR Doc. 2024-28910 Filed 12-13-24; 8:45 am]

BILLING CODE 6560-50-P